DEPARTMENT OF TRANSPORTATION

Office of the Secretary

Sunrise Airlines, Inc. d/b/a Flair Airlines of its Intent To Resume Operations

AGENCY: Office of the Secretary, Department of Transportation.

ACTION: Notice of Order to Show Cause (Order 2002-2-5) Docket OST-2001-8695.

SUMMARY: The Department of Transportation is directing all interested persons to show cause why it should not issue an order finding Sunrise Airlines, Inc., fit, willing, and able to resume scheduled passenger operations as a commuter air carrier, subject to conditions.

DATES: Persons wishing to file objections should do so no later than February 22, 2002.

ADDRESSES: Objections and answers to objections should be filed in Docket OST-2001-8695 and addressed to the Department of Transportation Dockets (SVC-124, Room PL-401), U.S. Department of Transportation, 400 Seventh Street, SW., Washington, DC 20590, and should be served upon the parties listed in Attachment A to the order.

FOR FURTHER INFORMATION CONTACT: Ms. Delores King, Air Carrier Fitness Division (X-56, Room 6401), U.S. Department of Transportation, 400 Seventh Street, SW., Washington, DC 20590, (202) 366-2343.

Dated: February 8, 2002.
Read C. Van De Water,
Assistant Secretary for Aviation, and International Affairs.

[FR Doc. 02-3620 Filed 2-13-02; 8:45 am]

BILLING CODE 4910-62-P